DEPARTMENT OF ENERGY

Federal Energy Regulatory Commission

[Project No. 5679-041]

Energy Stream, LLC; Notice Soliciting Scoping Comments

Take notice that the following hydroelectric application has been filed with the Commission and is available for public inspection.

a. Type of Application: Subsequent Minor License.

b. Project No.: 5679-041.

c. Date Filed: July 15, 2022.

d. Applicant: Energy Stream, LLC (Energy Stream).

e. Name of Project: M.S.C. Hydroelectric Project (project).

f. Location: On the Quinebaug River in Windham County, Connecticut. The project does not occupy federal land.

g. Filed Pursuant to: Federal Power Act, 16 U.S.C. 791(a)-825(r).

h. Applicant Contact: Mr. Rolland Zeleny, Energy Stream, LLC, 18 Washington St., Suite 18, Canton, MA 02021; call at (603) 498-8089; email at indigoharbor@yahoo.com.

i. FERC Contact: Arash Barsari at (202) 502-6207, or Arash.JalaliBarsari@ferc.gov.

j. Deadline for filing scoping comments: April 21, 2023.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the project name and docket number on the first page: M.S.C. Hydroelectric Project (P-5679-041).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. The application is not ready for environmental analysis at this time.

l. The existing M.S.C. Hydroelectric Project consists of: (1) an approximately 283-foot-long dam that includes: (a) an approximately 38-foot-long headgate structure with four sluice gates; (b) a 115-foot-long spillway section with 1.6-foot-high flashboards, and a crest elevation of 287.80 feet mean sea level (msl) at the top of the flashboards; (c) a 7-foot-wide pier; (d) a 91-foot-long auxiliary spillway section with a crest elevation of 288.70 feet msl; and (e) a 32-foot-long retaining wall section with a crest elevation of 289.7 feet msl; (2) an impoundment with a surface area of 52 acres at an elevation of 287.80 feet msl; (3) a forebay and intake structure with a trashrack with 1.6-inch clear bar spacing; (4) a low-level outlet gate adjacent to the trashrack; (5) a powerhouse containing a 400-kilowatt (kW) Kaplan turbine-generator unit and a 112-kW Francis turbine-generator unit, for a total installed capacity of 512 kW; (6) a 50-foot-long, 28-foot-wide, 10-foot-deep tailrace; (7) three 50-foot-long, 2.4-kilovolt (kV) lead lines that connect the generators to three 2.4/23-kV step-up transformers, where the project is connected to the regional grid; and (8) appurtenant facilities. The project creates an approximately 65-foot-long bypassed reach of the Quinebaug River.

The current license requires Energy Stream to: (1) operate the project in a run-of-river mode, such that project outflow approximates inflow; (2) release a minimum flow of 144 cubic feet per second (cfs) or inflow to the impoundment, whichever is less, below the tailrace; (3) release minimum flows when refilling the impoundment following emergency or maintenance drawdowns; and (4) provide upstream and downstream passage for American eels.

The minimum and maximum hydraulic capacities of the project are 40 and 545 cfs, respectively. The average annual energy production of the project from 2017 through 2021 was 2,885 megawatt-hours.

Energy Stream is not proposing any changes to project facilities or operation.

m. A copy of the application can be viewed on the Commission's website at https://www.ferc.gov using the “eLibrary” link. Enter the docket number excluding the last three digits in the docket number field to access the document. For assistance, contact FERC Online Support. At this time, the Commission has suspended access to the Commission's Public Reference Room due to the proclamation declaring a National Emergency concerning the Novel Coronavirus Disease (COVID-19), issued by the President on March 13, 2020.

n. You may also register online at https://ferconline.ferc.gov/FERCOnline.aspx to be notified via email of new filings and issuances related to this or other pending projects. For assistance, please contact FERC Online Support.

o. Scoping Process:

Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS.

At this time, we do not anticipate holding on-site scoping meetings. Instead, we are soliciting written comments and suggestions on the preliminary list of issues and alternatives to be addressed in the NEPA document, as described in scoping document 1 (SD1), issued March 22, 2023.

Copies of the SD1 outlining the subject areas to be addressed in the NEPA document were distributed to the parties on the Commission's mailing list and the applicant's distribution list. Copies of the SD1 may be viewed on the web at http://www.ferc.gov using the “eLibrary” link (see item m above).

Dated: March 22, 2023.
Kimberly D. Bose,
Secretary.

[FR Doc. 2023-06437 Filed 3-28-23; 8:45 am]

BILLING CODE 6717-01-P